DEPARTMENT OF JUSTICE

Notice of Lodging of Consent Decree Under the Comprehensive Environmental Response, Compensation, and Liability Act

Consistent with the procedures in 28 CFR 50.7 and 42 U.S.C. 9622(i), notice is hereby given that on July 3,2003, a proposed consent decree (“consent decree”) in United States v. Waste Management of Indiana, L.L.C., Civil Actions No. 3:03CV0483AS, was lodged with the United States District Court for the Northern District of Indiana, South Bend Division. This consent decree resolves claims against Waste Management of Indiana, L.L.C., for costs incurred and to be incurred under the Comprehensive Environmental Response, Compensation, and Liability Act, in connection with the Waste, Inc. Superfund Site located in Michigan City, Indiana. Under the terms of the consent decree, Waste Management of Indiana agrees to reimburse $95,000 to the Superfund.

The Department of Justice will receive for a period of thirty (30) days from the date of this publication comments relating to the consent decree. Comments should be addressed to the Assistant Attorney General, Environment and Natural Resources Division, P.O. Box 7611, U.S. Department of Justice, Washington, DC 20044-7611, and should refer to United States v. Chicago Specialties, L.L.C., Civil Action No. 3:03CV0483AS, D.J. Ref. 90-11-3-1376/7.

The consent decree may be examined at the Office of the United States Attorney, 204 South Main Street, South Bend, Indiana 46601, and at U.S. EPA Region V, 77 West Jackson Blvd., Chicago, Illinois 60604. During the public comment period, the consent decree may also be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy of the consent decree, please enclose a check in the amount of $4.75 (25 cents per page reproduction cost) payable to the U.S. Treasury for the consent decree.

William Brighton,
Assistant Section Chief, Environmental Enforcement Section, Environment and Natural Resources Division.

[FR Doc. 03-18769 Filed 7-23-03; 8:45 am]

BILLING CODE 4410-15-M